FEDERAL COMMUNICATIONS COMMISSION

47 CFR Part 73

[DA 04-373, MB Docket No. 03-221, RM-10796]

Television Broadcast Service; Tupelo, MS

AGENCY: Federal Communications Commission.

ACTION: Final rule.

SUMMARY: The Commission, at the request of KB Prime Media and United Television, Inc., substitutes channel 49+ for channel 35+ at Tupelo, Mississippi. See 68 FR 62046, October 31, 2002. TV channel 49+ can be allotted to Tupelo, Mississippi, in compliance with Sections 73.610 and 73.698 at coordinates 33-55-37 N. and 88-33-36 W. With this action, this proceeding is terminated.

DATES: Effective April 5, 2004.

FOR FURTHER INFORMATION CONTACT: Pam Blumenthal, Media Bureau, (202) 418-1600.

SUPPLEMENTARY INFORMATION: This is a synopsis of the Commission's Report and Order, MB Docket No. 03-221, adopted February 12, 2004, and released February 19, 2004. The full text of this document is available for public inspection and copying during regular business hours in the FCC Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Television broadcasting.

Part 73 of Title 47 of the Code of Federal Regulations is amended as follows:

PART 73—[AMENDED]

1. The authority citation for Part 73 continues to read as follows:

Authority: 47 U.S.C. 154, 303, 334 and 336.

§ 73.606 [Amended]

2. Section 73.606(b), the Table of Television Allotments under Mississippi, is amended by removing TV channel 35+ and adding TV channel 49+ at Tupelo.

Federal Communications Commission.
Barbara A. Kreisman,
Chief, Video Division, Media Bureau.

[FR Doc. 04-4261 Filed 2-25-04; 8:45 am]

BILLING CODE 6712-01-P